DEPARTMENT OF HEALTH AND HUMAN SERVICES

Centers for Medicare & Medicaid Services

[Document Identifier: CMS-10166]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Payment Error Rate Measurement in Medicaid and State Children's Health Insurance Program (SCHIP); Form No.: CMS-10166 (OMB # 0938-NEW); Use: The information collected will be used by CMS for, among other purposes, estimating improper payments in Medicaid and SCHIP as required by the Improper Payments Information Act (IPIA) of 2002. To implement the IPIA in Medicaid and SCHIP, CMS will use a national contracting strategy to produce Medicaid and SCHIP error rates. CMS plans to adopt this approach based on a recommendation that CMS hire a Federal contractor to perform payment error rate measurement. This recommendation was made during public comment on the proposed rule entitled “Medicaid Program and State Children's Health Insurance Program (SCHIP): Payment Error Rate Measurement” which published on August 27, 2004 (69 FR 52620), that contained provisions for all states to produce error rates in Medicaid and SCHIP.

The new error measurement methodology will rely on a Federal contractor to conduct medical and data processing reviews using generally the same methodologies developed during the past pilot projects and produce State-specific and national Medicaid and SCHIP error rates based on reviews conducted each Federal fiscal year (FY). We expect to begin measuring improper payments made in Medicaid fee-for-service in FY 2006. We have not yet determined the best method to measure improper payments made in Medicaid and SCHIP managed care. However, under the national contracting strategy, we expect the Federal contractor will implement these reviews and States will submit the same information listed below except for medical policies. (Managed care claims are not subject to medical reviews so there is no burden to providers to submit medical records.) Similarly, we are considering the best approach to measure improper payments based on eligibility errors within the confines of current law and with minimal budgetary impact. It is possible that States will be required to conduct at least part of the eligibility tests. However, this notice is not intended to address the cost or burden estimates associated with either the managed care or eligibility reviews in Medicaid or SCHIP.

Initially, based on States' annual medical expenditures from the previous year, the Federal contractor will group all States into three equal strata of small, medium and large and select a random sample of an estimated 18 States to be reviewed for each program. (However, CMS may revise its sampling methodology in the future and may use a methodology to select States that will ensure each State is selected at least every three years but that no State is sampled more than once every three years. The error rates produced by this selection methodology will provide the State with a State-specific error rate estimated to be within 3% precision at the 95% confidence level. ) The States selected for review would submit to the Federal contractor, annual expenditures, quarterly stratified claims data, medical policies (which include State statutes, regulations, individual Medicaid Provider Manual and Administrative Directives as well as other information that the contractor may need to determine errors in the medical reviews), and other information so that the contractor can determine the specific State sample sizes and conduct medical and data processing reviews on the sampled claims. In addition, the contractor will request medical records from providers whose claims were sampled; the medical records are needed to support the medical reviews. CMS is not requiring States and providers to use a specific form, e.g., facsimile, or electronic to transmit the information. Based on the reviews, the contractor will calculate State-specific error rates which will serve as the basis for calculating national Medicaid and SCHIP error rates. Each State reviewed also will submit a corrective action plan to CMS that outlines its plans to develop, implement and monitor corrective actions designed to address error causes for purposes of reducing the State's error rate. Frequency: Reporting—On occasion and quarterly; Affected Public: State, Local or Tribal Government; Number of Respondents: 36; Total Annual Responses: 5076; Total Annual Hours: 58,680.

To obtain copies of the supporting statement and any related forms for the proposed paperwork collections referenced above, access CMS Web site address at http://www.cms.hhs.gov/regulations/pra/, or E-mail your request, including your address, phone number, OMB number, and CMS document identifier, to Paperwork@cms.hhs.gov, or call the Reports Clearance Office on (410) 786-1326.

Written comments and recommendations for the proposed information collections must be mailed within 30 days of this notice directly to the OMB desk officer: OMB Human Resources and Housing Branch, Attention: Katherine Astrich, New Executive Office Building, Room 10235, Washington, DC 20503.

Dated: August 24, 2005.
Michelle Shortt,
Director, Regulations Development Group, Office of Strategic Operations and Regulatory Affairs.

[FR Doc. 05-17100 Filed 8-25-05; 8:45 am]

BILLING CODE 4120-01-P